DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than September 3, 2004.

Interested persons are invited to submit written comments regarding the subject matter of the investigations to the Director, Division of Trade Adjustment Assistance, at the address shown below, not later than September 3, 2004.

The petitions filed in this case are available for inspection at the Office of the Director, Division of Trade Adjustment Assistance, Employment and Training Administration, U.S. Department of Labor, Room C-5311, 200 Constitution Avenue, NW., Washington, DC 20210.

Signed at Washington, DC, this 12th day of August 2004.
Timothy Sullivan,
Director, Division of Trade Adjustment Assistance.

APPENDIX
[TAA Petitions Instituted Between 7/26/04 and 8/6/04]
TA-W | Subject firm (petitioners) | Location | Date of institution | Date of petition
55313 | C and D Die Casting (CA) | Chatsworth, CA | 07/26/04 | 07/19/04
55314 | ABB, Inc. (Comp) | Columbus, OH | 07/26/04 | 07/26/04
55315 | Manpower Temporary (Wkrs) | Marion, NC | 07/26/04 | 07/14/04
55316 | West Point Stevens (Wkrs) | Greenville, AL | 07/26/04 | 07/19/04
55317 | Saber Industries, Inc. (Comp) | Nashville, TN | 07/26/04 | 07/20/04
55318 | Allegheny Ludlum (Comp) | Natrona Hgts., PA | 07/26/04 | 07/06/04
55319 | Danaher Motion-Thomson Bay City Mfg. Facility (UAW) | Bay City, MI | 07/26/04 | 07/19/04
55320 | C. M. Holtzinger Fruit Co. (Comp) | Prosser, WA | 07/26/04 | 07/22/04
55321 | Dynea USA, Inc. (Wkrs) | Eugene, OR | 07/27/04 | 07/27/04
55322 | Coats American, Inc. (Comp) | Marble, NC | 07/27/04 | 07/27/04
55323 | Smith-Victor Corporation (Wkrs) | Griffith, IN | 07/27/04 | 07/23/04
55324 | Mandell Industries, Inc. (UNITE) | Oceanside, NY | 07/27/04 | 07/26/04
55325 | GLP Acquisitions, LLC (Comp) | Salem, MI | 07/27/04 | 07/12/04
55326 | Sumitomo Electric Wiring Systems, Inc. (Comp) | Scottsville, KY | 07/28/04 | 07/27/04
55327 | Loger Industries (Wkrs) | Lake City, PA | 07/28/04 | 07/27/04
55328 | Pacific Prime Wood Products (Wkrs) | Redmond, OR | 07/28/04 | 07/26/04
55329 | Westchester Lace (UNITE) | N. Bergen, NJ | 07/28/04 | 07/21/04
55330 | Jockey International (Comp) | Maysville, KY | 07/28/04 | 07/26/04
55331 | Burlington Industries, LLC (Comp) | Burlington, NC | 07/30/04 | 07/29/04
55332 | Holman Cooking Equipment (Comp) | Saco, ME | 07/30/04 | 07/28/04
55333 | Gateway Country Stores, LLC (Wkrs) | Whitehall, PA | 07/30/04 | 07/28/04
55334 | Mulholland Brothers (Wkrs) | San Francisco, CA | 07/30/04 | 07/21/04
55335 | Falcon Products, Inc. (Comp) | Belmont, MS | 07/30/04 | 07/21/04
55336 | Sunrise Medical (Comp) | Fresno, CA | 07/30/04 | 07/21/04
55337 | Benee's Inc. (MO) | Framington, MO | 07/30/04 | 07/28/04
55338 | C and D Technologies, Inc. (Comp) | Huguenot, NY | 07/30/04 | 07/20/04
55339 | Fujitsu Network Communications (Wkrs) | Richardson, TX | 07/30/04 | 07/22/04
55340 | Rippewood Phosporous U.S., LLC (Wkrs) | Gallipolis Ferry, WV | 07/30/04 | 07/28/04
55341 | Express Personnel Service (Comp) | Redmond, WA | 07/30/04 | 07/26/04
55342 | TSI Logistics (Wkrs) | Macon, GA | 07/30/04 | 07/29/04
55343 | Victoria Vogue, Inc. (Comp) | Bethlehem, PA | 07/30/04 | 07/28/04
55344 | R and W Fashion, Inc. (Wkrs) | San Francisco, CA | 07/30/04 | 07/22/04
55345 | Fenton Art Glass, Co., Inc. (USWA) | Williamstown, WV | 07/30/04 | 07/29/04
55346 | Hamilton Beach/Proctor Silex, Inc. (Wkrs) | Southern Pines, NC | 07/30/04 | 07/19/04
55347 | Romar Textile Co., Inc. (Comp) | Elwood City, PA | 07/30/04 | 07/21/04
55348 | Ahearn And Soper Co., Inc. (NY) | E. Syracuse, NY | 07/30/04 | 07/22/04
55349 | Hardware Designers (Wkrs) | Marienville, PA | 07/30/04 | 07/26/04
55350 | Boden Store Fixtures (Comp) | Portland, OR | 08/02/04 | 07/30/04
55351 | DT Swiss, Inc. (Comp) | Grand Junction, CO | 08/02/04 | 07/30/04
55352 | BIC Corporation (Comp) | Milford, CT | 08/02/04 | 08/02/04
55353 | Big Joe's Manufacturing Co. (WI) | Wisconsin Dells, WI | 08/02/04 | 07/30/04
55354 | Knight Textile Corporation (Comp) | Saluda, SC | 08/02/04 | 07/30/04
55355 | Phillips-Advance Transformer (Comp) | Boscobal, WI | 08/02/04 | 08/01/04
55356 | GE Consumer Finance (Wkrs) | Mason, OH | 08/02/04 | 07/30/04
55357 | Sanmina-SCI Corporation (Comp) | Wilmington, MA | 08/02/04 | 07/30/04
55358 | ECE Holding, Inc. (Comp) | Eugene, OR | 08/02/04 | 07/26/04
55359 | Brown and Williamson-Wilson (Comp) | Wilson, NC | 08/02/04 | 07/30/04
55360 | Henry County Plywood (Wkrs) | Ridgeway, VA | 08/03/04 | 07/31/04
55361 | Boeing Company (UAW) | Lakewood, CA | 08/03/04 | 08/02/04
55362 | M.J. Wood Products (VT) | Merrisville, VT | 08/03/04 | 07/27/04
55363 | A and N Inc. (Comp) | Marion, NC | 08/03/04 | 08/02/04
55364 | Anderson 2000 (GA) | Peachtree City, GA | 08/03/04 | 08/02/04
55365 | National Textiles (Wkrs) | Forest City, NC | 08/03/04 | 07/27/04
55366 | Crisci Tool and Die Inc. (MA) | Leominster, MA | 08/03/04 | 07/26/04
55367 | Lexcraft, Inc. (Comp) | Fall River, MA | 08/04/04 | 07/27/04
55368 | Bomax, Inc. (Wkrs) | Watertown, NY | 08/04/04 | 07/28/04
55369 | California Concepts (CA) | Gardena, CA | 08/04/04 | 07/27/04
55370 | Permacel (Comp) | N. Brunswick, NJ | 08/04/04 | 07/23/04
55371 | Ace Products, Inc. (Comp) | Lineville, AZ | 08/04/04 | 08/02/04
55372 | Union Apparel, Inc. (Wkrs) | Norvelt, PA | 08/04/04 | 07/29/04
55373 | Broyhill Furniture Ind., Inc. (Wkrs) | Rutherfordton, NC | 08/04/04 | 07/28/04
55374 | Automodular Assemblies, Inc. (DE) | New Castle, DE | 08/04/04 | 08/03/04
55375 | JP Morgan Chase (Wkrs) | Hicksville, NY | 08/04/04 | 07/18/04
55376 | Teva Pharmaceuticals, U.S.A. (IBT) | Mexico, MO | 08/04/04 | 08/03/04
55377 | Gallade Technologies (USWA) | Saginaw, MI | 08/04/04 | 07/29/04
55378 | Employment Staffing (Comp) | Honea Path, SC | 08/04/04 | 08/03/04
55379 | Invisible Technologies (Comp) | Garrett, IN | 08/04/04 | 08/02/04
55380 | Pinnacle Foods Corporation (Comp) | Omaha, NE | 08/04/04 | 08/03/04
55381 | Med Data, Inc. (Comp) | Seattle, WA | 08/04/04 | 07/26/04
55382 | Eclipsys Corp/(CA) | Santa Rosa, CA | 08/04/04 | 07/27/04
55383 | Rockwell Automation (Comp) | Eau Claire, WI | 08/05/04 | 07/20/04
55384 | Pheasant Hill Mfg. (Wkrs) | Wagoner, OK | 08/05/04 | 07/26/04
55385 | Morse Automotive Corp. (AR) | Arkadelphia, AR | 08/05/04 | 08/05/04
55386 | MCI (Wkrs) | Albuquerque, NM | 08/05/04 | 07/20/04
55387 | Hartwell Industries (Comp) | Hartwell, GA | 08/05/04 | 07/30/04
55388 | Pelstar, LLC (Comp) | Bridgeview, IL | 08/05/04 | 08/04/04
55389 | Gerber Cobum (Comp) | Muskogee, OK | 08/05/04 | 08/04/04
55390 | Holliston Mills (Wkrs) | Kingsport, TN | 08/05/04 | 07/30/04
55391 | eMag Solutions, LLC (Wkrs) | Graham, TX | 08/05/04 | 07/28/04
55392 | Upright International Mfg., Ltd. (CA) | Madera, CA | 08/05/04 | 07/23/04
55393 | Kaz, Inc. (Wkrs) | Newbern, TN | 08/06/04 | 08/04/04
55394 | Technical Associates (GA) | Tifton, GA | 08/06/04 | 08/05/04
55395 | Dana Undies (Wkrs) | Blakely, GA | 08/06/04 | 08/05/04
55396 | Baker Furniture (MCIW) | Holland, MI | 08/06/04 | 07/27/04
55397 | VIP USA, Inc. (TX) | Irving, TX | 08/06/04 | 08/06/04
55398 | Thomasville Furniture Ind. (Wkrs) | Thomasville, NC | 08/06/04 | 07/27/04
55399 | Lonza, Inc. (Wkrs) | Pasadena, TX | 08/06/04 | 08/04/04
55400 | Rohr Lingerie, Inc. (Comp) | Old Forge, PA | 08/06/04 | 08/05/04
55401 | Mount Vernon Mills, Inc. (Comp) | Cleveland, GA | 08/06/04 | 08/05/04
55402 | Royal Home Fashions (Wkrs) | Henderson, NC | 08/06/04 | 08/05/04

[FR Doc. 04-19316 Filed 8-23-04; 8:45 am]

BILLING CODE 4510-30-M